FEDERAL COMMUNICATIONS COMMISSION

47 CFR Part 73

[DA 02-920; MM Docket Nos. 01-156, 01-158; RM-10177, RM-10179]

Radio Broadcasting Services; Paducah, Texas and Paulden, AZ

AGENCY: Federal Communications Commission.

ACTION: Final rule.

SUMMARY: In this document the Commission considers proposals in two separate docketed proceedings: Dismisses a proposal filed by Charles Crawford requesting the allotment of Channel 296C3 at Paducah, Texas because petitioner withdrew its expression of interest. At the request of Paulden Broadcasting, Channel 263C3 is allotted at Paulden, Arizona without a site restriction. Coordinates for Channel 263C3 at Paulden are: 34-53-00 NL and 112-28-00 WL. Jeraldine Anderson and Southwest FM Broadcasting Co., Inc. filed comments in support of the allotment. See 66 FR 39128 (July 27, 2001).

DATES: Effective June 6, 2002.

FOR FURTHER INFORMATION CONTACT: Victoria M. McCauley, Media Bureau, (202) 418-2180.

SUPPLEMENTARY INFORMATION: This is a synopsis of the Commission's Report and Order, MM Docket Nos. 01-156, 01-158, adopted April 10, 2002, and released April 22, 2002. The full text of this Commission decision is available for inspection and copying during normal business hours in the FCC Reference Center (Room 239), 445 12th Street, SW, Washington, DC. This document may also be purchased from the Commission's duplicating contractor, Qualex International, Portals II, 445 12th Street, SW, Room CY-B402, Washington, DC, 20554, telephone 202-863-2893, facsimile 202-863-2898, or via e-mail qualexint@aol.com.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Arizona, is amended by adding Paulden, Channel 263C3.

Federal Communications Commission.
John A. Karousos,
Assistant Chief, Audio Division, Office of Broadcast License Policy, Media Bureau.

[FR Doc. 02-10788 Filed 4-30-02; 8:45 am]

BILLING CODE 6712-01-P